DEPARTMENT OF ENERGY

Office of Energy Efficiency and Renewable Energy

Notice of Opportunity for Technical Assistance (NOTA); Solar America Showcases (General) 2009

AGENCY: Office of Energy Efficiency and Renewable Energy, Department of Energy (DOE).

ACTION: Notice of Opportunity for Technical Assistance (DE-PS36-09GO99021).

SUMMARY: The Department of Energy (DOE) today gives Notice of Opportunity for Technical Assistance (NOTA). The purpose of this NOTA is to support the goal of DOE's Solar America Initiative (SAI) to reduce the cost of solar photovoltaic technologies so that they become cost-competitive with grid electricity by 2015. The SAI represents a significant enhancement of DOE's business strategy of partnering with key stakeholders to accelerate commercialization of photovoltaic (PV) system research and development (R&D) to meet aggressive cost and installed capacity goals. DOE's Solar Energy Technologies Program uses research and development (R&D), testing and evaluation, and market transformation (MT) approaches to meet its SAI goal. MT efforts aim to reduce market barriers and promote market expansion of solar energy technologies through non-R&D activities. There are several aspects to SAI MT that should be kept in mind by Applicants to this NOTA:

• DOE is looking to identify and remove market barriers. DOE is seeking to identify and minimize or remove barriers to solar technology commercialization as quickly and efficiently as possible.

• DOE is looking for significant market changing activities. DOE is seeking to make large and significant changes in the marketplace through its market transformation activities.

• DOE is focused on near- and mid-term results. Accordingly, emphasis will be on projects and activities with the greatest potential to assist the DOE in reaching its SAI goal by 2015 (for more information, see SAI Web site at http://www1.eere.energy.gov/solar/solar_america/index.html).

• DOE is looking for performers and partners who are committed to the SAI mission. In order to achieve the SAI mission of 2015, DOE is inclined to partner and work with highly motivated entities.

The DOE will provide Technical Assistance to large-scale, high-visibility solar installation projects that have the ability to impact the market for solar technologies through large project size, use of a novel solar technology, and/or use of a novel application for a solar technology. In addition, it is desired that the project be replicable or have replicable components. Large-scale installations may include photovoltaic, concentrating solar power, solar water heating, and solar space heating applications.

Technical assistance will not be provided for research, development, or early-stage testing and evaluation of any technology or product. Solar America Showcases focus on providing support to projects in which a commercially-ready technology is to be installed in a large-scale application with full financial project commitment already in place. Support for research, product development or early stage testing and evaluation of solar products or technologies may be available under other Solar America Initiative opportunities.

DOE will not purchase hardware or otherwise provide direct funding to organizations selected from this Notice.

For further detail, see the SUPPLEMENTARY INFORMATION section of this document, and the full Notice of Opportunity for Technical Assistance (NOTA) at the DOE Industry Interactive Procurement System (IIPS) Web site: http://e-center.doe.gov/.

DATES: Requests for Technical Assistance must be submitted by 11:59 PM Eastern Time via the DOE Industry Interactive Procurement System (IIPS) Web site: http://e-center.doe.gov/ on the dates indicated in the table below to be considered under this Notice. Requests received after the submission due date/time will automatically be considered and reviewed in the next cycle other than the last cycle. DOE reserves the right to add other submission dates or repost the Notice, pending review of the requests for Technical Assistance received during the open period. DOE may continue to enter into Memoranda of Agreements (MOA) with selected organizations/entities, until the total value of DOE's Technical Assistance has been allocated or all selected projects have received the required Technical Assistance needed.

Notice closing date | Submission due date/time
03/31/2009 | 03/31/2009 11:59 PM ET.
06/30/2009 | 06/30/2009 11:59 PM ET.
09/30/2009 | 09/30/2009 11:59 PM ET.
12/30/2009 | 12/30/2009 11:59 PM ET.

ADDRESSES: All requests for Technical Assistance must be submitted to the DOE Industry Interactive Procurement System (IIPS) Web site: http://e-center.doe.gov/. Applications submitted via any other method will not be considered for Technical Assistance under this notice.

FOR FURTHER INFORMATION CONTACT: Questions regarding the content of the notice must be submitted through the “Submit Question” feature of the DOE Industry Interactive Procurement System (IIPS) at http://e-center.doe.gov. Locate the Notice on IIPS and then click on the “Submit Question” button. Enter required information. You will receive an electronic notification that your question has been answered. DOE will try to respond to a question within 3 business days, unless a similar question and answer have already been posted on the Web site. All questions must be submitted no later than one week prior to the closing date.

SUPPLEMENTARY INFORMATION: The purpose of Solar America Showcases (SAS) is to accelerate demand for solar technologies among key end-use market sectors. Under this activity, DOE will provide Technical Assistance to large-scale, high-visibility solar installation projects that have the ability to impact the market for solar technologies through large project size, use of a novel solar technology, and/or use of a novel application for a solar technology. In addition, it is desired that the project be replicable or have replicable components. It is not expected that all projects will meet all of these parameters, but projects would ideally reflect some or most of these qualities. Showcases may utilize photovoltaic (PV), concentrating solar power (CSP), and solar water/air heating (SWAH) applications.

DOE will not purchase hardware or provide any direct funding to selected organizations through this Notice. Awards are comprised of Technical Assistance only.

To provide more guidance regarding the types of installations DOE is looking to support, additional information is provided below on the parameters for (and examples of) projects for which DOE anticipates receiving requests for Technical Assistance under this Notice.

Regarding the scale of the project, DOE is looking for projects with total capacity of 250 kW or greater. Projects may include multiple sites, and do not have to be co-located. The impact and visibility of a geographically divided project, however, must remain high. In addition to the initial installation, the kW total may also include planned follow-on activities (direct replication efforts). Examples include installations in residential subdivisions, shopping centers, office buildings or parks, big box retail locations, factories, and utility solar production.

Regarding the visibility of the project, DOE anticipates projects that are highly visible, such as centrally located in towns, are sited in high-traffic vehicle or pedestrian areas, house hundreds of residents or workers, are located in an area frequented by tourists, are located in a popular public destination (e.g. shopping centers, courthouses, etc.), or have some other high visibility component. The project would also have an outreach component that provides information about the installation, such as a kiosk that displays information about the solar energy system.

Regarding the novel solar technology, DOE proposes to support projects that introduce new solar technologies that hold the promise of reducing initial costs, simplifying installation, and boosting consumer confidence, but which have little testing to date that demonstrates such improvements. Examples include new cell or module technology, new materials, or innovative installation and mounting techniques. By offering Technical Assistance, DOE envisions helping these new solar technologies develop a performance record in the marketplace, identify technical problems early in mass product releases, and devise solutions and alternatives that move specific solar technologies to cost-competitiveness by 2015.

Regarding the novel solar application, DOE expects to support projects that utilize solar technology in new ways. One example would be to include new methods of building integration beyond traditional roof-mounted modules. DOE also supports innovative designs and methods that open up previously untapped markets or end uses to solar technology adoption. Acceptable applications could also include those that are currently in use in other geographic areas, but not in the vicinity (State, region) of the proposed site.

Regarding replicability, DOE expects to support projects that can either be replicated by the entity requesting the Technical Assistance or by others. The entire project should be replicable, or have replicable components, unless installations are of an extremely large size that justifies DOE support without replicability. Replication of projects is a critical component to advance solar commercialization and will be strongly considered under this opportunity.

Subject to annual Congressional appropriations, the estimated value of the Technical Assistance to be available under this Notice is approximately $2,000,000 during calendar year 2009.

Although there is no fixed limit on the amount of this annual funding that can be dedicated to Technical Assistance under any one project, individual projects will rarely receive assistance valued at more than $500,000, unless the proposed project is truly exceptional in how it advances the SAI goal. Technical Assistance may be provided to selected projects until the total Technical Assistance budget has been allocated or all selected projects have received the appropriate amount of Technical Assistance. DOE may choose to offer a similar opportunity for Technical Assistance in future years.

DOE anticipates entering into 8 to 16 agreements to provide Technical Assistance to selected organizations under this Notice during calendar year 2009. The actual number of agreements will depend on the amount of Technical Assistance required by selected projects and the amount of DOE funding available to support the Technical Assistance.

The period of performance of any individual agreements will be negotiated to accommodate the specific project being supported. Typical projects will range from 18 to 24 months in length.

DOE will provide tailored hands-on Technical Assistance to the selected organization(s) through the use of specifically assembled Technical Assistance Teams. Members of these Teams will be subject matter and technical experts in areas such as architecture, finance, planning, project management, etc. Significant participants of these Teams will be the National Renewable Energy Laboratory (NREL), Sandia National Laboratories (SNL), Oak Ridge National Laboratory (ORNL), the Southwest and Southeast Regional Experiment Stations (RESs), which are housed at New Mexico State University and Florida Solar Energy Center, respectively, as well as CH2M HILL, a global engineering firm selected competitively under a prior DOE procurement. Other entities may be added to the Teams by DOE as necessary. DOE may choose to contract for non-lab Technical Assistance Team members, mainly to provide the non-solar-specific Technical Assistance, through a separate procurement instrument.

Technical Assistance provided under this Notice is designed to help entities make informed decisions. Technical Assistance Teams will provide information and options to enable policy, planning, and purchasing decisions. DOE and the Technical Assistance Teams will not direct behavior or decisions, or require entities to take any particular course of action. The role of DOE stops short of the actual decision-making on projects.

Any legal entity, to include private sector for-profit and non-profit organizations, State and local governments, and trade and other associations may request DOE Technical Assistance under this Notice, as long as the installation proposed by the organization, and for which the Technical Assistance will be provided, is located in the United States.

Federal agencies are not permitted to request Technical Assistance under this Notice.

Federally Funded Research and Development Center (FFRDC) Contractors may not submit a request for Technical Assistance, may not participate as a team partner with any entity requesting Technical Assistance, and may not assist any entity with a request for Technical Assistance under this Notice.

Nonprofit organizations described in section 501(c)(4) of the Internal Revenue Code of 1986 that engaged in lobbying activities after December 31, 1995 are not permitted to submit a request for Technical Assistance under this Notice.

Cities that have been named “Solar America Cities” under a separate DOE award are eligible under this Notice as long as the requested technical assistance is complementary and not duplicative of the technical assistance provided under the Solar America Cities Award Memorandum of Agreement (MOA).

Technical Assistance described under this Notice will be provided via a Memorandum of Agreement (MOA) between DOE, the organization selected to receive the Technical Assistance, and the Technical Assistance Team Leader responsible for providing the Technical Assistance.

A MOA is a collaborative agreement between the Federal Government and other parties to work together on a mutually beneficial activity. The MOA will detail the scope of the Technical Assistance activities, the forms of collaboration, the responsibilities of the partners to the Agreement, and the treatment of any potential intellectual property. Federal funding will not be provided to a partner under a MOA. View the full NOTA at the DOE Industry Interactive Procurement System (IIPS) Web site: http://e-center.doe.gov/.

Issued in Golden, CO on January 28, 2009.
Mary Foreman,
Assistant Manager, Office of Acquisition and Financial Assistance, DOE—Golden Field Office.

[FR Doc. E9-2460 Filed 2-4-09; 8:45 am]

BILLING CODE 6450-01-P